DEPARTMENT OF VETERANS AFFAIRS

Veterans' Advisory Committee on Environmental Hazards; Notice of Meeting

The Department of Veterans Affairs (VA) gives notice under Public Law 92-463 (Federal Advisory Committee Act) that a meeting of the Veterans' Advisory Committee on Environmental Hazards will be held on April 5-6, 2006, from 8 a.m. to 5 p.m. each day. The meeting will be held at the Department of Veterans Affairs, 810 Vermont Avenue, NW., Room 728, Washington, DC. The meeting is open to the public.

The purpose of the Committee is to provide advice to the Secretary of Veterans Affairs on adverse health effects that may be associated with exposure to ionizing radiation and to make recommendations on proposed standards and guidelines regarding VA benefit claims based upon exposure to ionizing radiation.

The agenda for both days will be analyses of medical and scientific papers concerning the health effects of exposure to ionizing radiation. On the basis of the discussions, the Committee may make recommendations to the Secretary concerning the relationship of certain diseases to exposure to ionizing radiation. On April 5, VA's Public Health and Environmental Hazards Office will also make a presentation. The April 6 session will include planning for future Committee activities and assignment to tasks among the members.

Interested persons wishing to attend the meeting should contact Ms. Bernice Green, Department of Veterans Affairs, Compensation and Pension Service, 810 Vermont Avenue, NW., Washington, DC 20420, by phone at (202) 273-7210 or by fax at (202) 275-1728. Members of the public may submit written questions or prepared statements in advance for the Committee's review. Statements should be sent to Ms. Green's attention at least 5 days prior to the meeting. Those who submit material may be asked to clarify it prior to its consideration by the Committee.

An open forum for verbal statements from the public will be available for 20 minutes during the morning and 20 minutes in the afternoon each day. Each person wishing to make a verbal statement before the Committee will be accommodated on a first-come, first-served basis and will be provided three (3) minutes to present a statement.

Dated: March 10, 2006.
By Direction of the Secretary.
E. Philip Riggin,
Committee Management Officer.

[FR Doc. 06-2528 Filed 3-15-06; 8:45 am]

BILLING CODE 8320-01-M